DEPARTMENT OF JUSTICE

Notice of Lodging of Consent Decree Under the Clean Air Act (CAA)

Notice is hereby given that on August 29, 2013, a proposed consent decree (“proposed Decree”) in United States and the People of the State of California ex rel. California Air Resources Board v. MotorScience Enterprises, Inc., MotorScience, Inc. and Chi Zheng, C.A. No. 1:11-cv-08023 GHK was lodged with the United States District Court for the Central District of California.

In this action brought by the United States under Sections 203(a) and 213(d) of the CAA, 40 U.S.C. 7522(a), 7547(d) and brought by the People of the State of California ex rel. California Air Resources Board (“ARB”) under the California Health and Safety Code section 43151, the Plaintiffs sought injunctive relief against the Defendants MotorScience Enterprises, Inc., MotorScience, Inc. and Chi Zheng, individually, for alleged violations arising from Defendants' motor vehicle consulting business relating to the preparation and submission of applications for certificates of conformity from the United States Environmental Protection Agency (U.S. EPA) and executive orders from ARB. The Consent Decree requires Defendants to undertake injunctive relief to improve the accuracy and reliability of the applications they prepare on behalf of manufacturers and importers of motor vehicles, particularly nonroad (or recreational) vehicles and nonroad engines, and to improve their recordkeeping practices. Additionally, under the Consent Decree Defendants have agreed to have a stipulated judgment entered against them for $3,550,000 in civil penalties, and to pay an additional $60,000 civil penalty within six months. The United States will receive 80 percent of the collected penalties, and California ARB will receive the remaining 20 percent.

The publication of this notice opens a period for public comment on the Consent Decree. Comments should be addressed to the Deputy Assistant Attorney General, Environment and Natural Resources Division, and should refer to United States and the People of the State of California ex rel. California Air Resources Board v. MotorScience Enterprises, Inc., MotorScience, Inc. and Chi Zheng, C.A. No. 1:11-cv-08023 GHK, D.J. Ref. No. 90-5-2-1-10209. All comments must be submitted no later than thirty (30) days after the publication date of this notice. Comments may be submitted either by email or by mail:

To submit comments: | Send them to:
By email | pubcomment-ees.enrd@usdoj.gov.
By mail | Deputy Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $14.00 (25 cents per page reproduction cost) payable to the United States Treasury.

Maureen Katz,
Assistant Chief Management, Environmental Enforcement Section, Environment and Natural Resources Division.

[FR Doc. 2013-21455 Filed 9-3-13; 8:45 am]

BILLING CODE 4410-15-P